DEPARTMENT OF HOUSING AND URBAN DEVELOPMENT

[Docket No. FR-5775-N-01]

Authority To Accept Unsolicited Proposals for Research Partnerships

AGENCY: Office of the Assistant Secretary for Policy Development and Research, HUD.

ACTION: Notice.

SUMMARY: This notice announces that HUD's Office of Policy Development and Research (PD&R) has the authority to accept unsolicited research proposals that address current research priorities. In accord with statutory requirements, the research projects must be funded at least 50 percent by philanthropic entities or federal, state or local government agencies.

DATES: Proposals may be submitted at any time and will be evaluated as they are received.

FOR FURTHER INFORMATION CONTACT: Questions should be directed by email to ResearchPartnerships@hud.gov; by telephone to Madlyn Wohlman-Rodriguez at 202-402-5939 or Kinnard Wright at 202-402-7495; or by mail to the Department of Housing and Urban Development, Office of University Partnerships, 451 Seventh Street SW., Room 8226, Washington, DC 20410, ATTENTION: Research Partnerships. Persons with speech or hearing impairments may call the Federal Relay Service TTY at 800-877-8339.

SUPPLEMENTARY INFORMATION: The Consolidated Appropriations Act, 2014, (Pub. L. 113-76, approved January 18, 2014) (FY 2014 appropriation) authorizes PD&R to enter into non-competitive cooperative agreements for research projects that are aligned with PD&R's research priorities and where HUD can gain value by having substantial involvement in the research activity. Research projects must be funded at least 50 percent by philanthropic entities or other federal, state or local government agencies.

Research Priorities

The two primary documents that provide a framework for HUD's research priorities are:

(1) The FY 2010-2015 Strategic Plan, which specifies the Department's mission and strategic goals for program activities.

(2) The HUD Research Roadmap FY 2014-2018 (available at www.HUDUSER.org), which takes the strategic plan as a starting point and integrates extensive input from diverse stakeholder groups to define a five-year research agenda. PD&R has developed and published this research agenda to focus research resources on timely, policy-relevant research questions that lie within the Department's area of comparative advantage. This focus on comparative advantage has a corollary, which is the accompanying need for PD&R to collaborate with other research organizations to support their comparative advantage in areas that are mutually important.

The authority that Congress provided HUD to enter into noncompetitive cooperative agreements for research is a central tool for fulfilling the Roadmap's vision for research collaboration. HUD may enter into noncompetitive cooperative agreements for research proposals that inform important policy and program objectives of HUD that are not otherwise being addressed and that focus on one of HUD's research priorities. The following summarizes these categories, but submitting institutions are encouraged to review the full list of priority research questions in appendix D of the Roadmap, and the priorities of HUD's updated Strategic Plan when it is released, in interim or final form, in 2014.

(1) Homeownership and housing finance. Rapid changes in the housing finance sector led to the inflation of the house price bubble and its sudden deflation in the 2000s. The U.S. and much of the rest of the world continue to deal with the aftermath of the financial crisis rooted in the U.S. housing finance sector. HUD is interested in research in many areas of homeownership and housing finance, which include, but are not limited to: Better predicting a finance-driven house price bubble; improving outcomes for struggling homeowners and communities in the areas of foreclosures, foreclosure alternatives, mortgage modification protocols, and real-estate owned properties; finding ways that are safer for both borrowers and lenders to extend mortgage credit to first-time homebuyers and homeowners with less-than-stellar credit; and updating federal support structures for single-family and multifamily housing finance in a reformed housing finance system.

(2) Affordable rental housing. Providing housing assistance for low- and moderate-income families in the rental market is central to HUD's mission. HUD is interested in research that improves the efficiency and effectiveness of housing programs, which include public housing, Housing Choice Vouchers, assisted multifamily programs, and FHA insurance. Priority research questions address (among other topics):

(a) Improving program operations and responses to changing market conditions;

(b) identifying rent subsidy approaches that could more efficiently and beneficially meet the full range of housing needs; and

(c) better understanding how HUD's programs are affected by tenant and landlord behavior.

(3) Housing as a platform for improving quality of life. Specifically, the Department is interested in how HUD-provided housing assistance can be used to accomplish such things as:

(a) Improve educational outcomes and early learning and development;

(b) improve health outcomes;

(c) increase economic security and self-sufficiency;

(d) improve housing stability through supportive services for vulnerable populations, including the elderly, people with disabilities, homeless families and individuals, and those individuals and families at risk of becoming homeless; and

(e) improve public safety.

To evaluate the ability of housing assistance to positively affect these various outcomes requires reaching beyond the sphere of housing to health, education, and other areas, which may involve targeted provision of cost-effective services in association with housing.

(4) Sustainable and inclusive communities. HUD's goal of advancing sustainable and inclusive communities seeks innovative and transformational evidence-based approaches to deal with long-standing and emerging community development challenges. HUD is interested in research questions such as, but not limited to:

(a) Implementing proven and cost-effective housing technology in HUD-funded housing or other housing, including green or sustainable construction methods, operations, and products that reduce energy consumption and other negative environmental impacts, while improving affordability, occupant health or other outcomes;

(b) understanding and addressing persistent segregation along racial, ethnic and economic lines, and the role of mixed-income housing and inclusionary zoning in strengthening communities;

(c) strengthening urban resilience in the face of climate change, disasters, pestilence and energy shocks;

(d) improving integrated and regional planning for land use and transportation;

(e) understanding the role and effect of anchor institutions (for example, universities, hospitals and churches) on the revitalization of distressed communities, particularly when the anchor institution engages the community and forms partnerships with local stakeholders for community change.

(5) HUD Assets: HUD has made, and continues to make, significant investments in “Research Assets” as described below, including program demonstrations and in the production of datasets, that PD&R is interested in seeing leveraged in ways that may, or may not, be specifically referenced in the Research Roadmap or HUD's Strategic Plan. Such studies demonstrate a broader usefulness of HUD's Research Assets that further increases the return on these investments for the taxpayer.

HUD's Research Assets

In considering potential research partnerships, PD&R urges organizations to consider ways to take advantage of key research assets that the Research Roadmap identifies as part of HUD's comparative advantage.

(1) HUD demonstrations. HUD values demonstrations as a method for evaluating new policy and program initiatives and significantly advancing evidence-based policy, especially when rigorous random-assignment methods are feasible. HUD also is interested in research opportunities that take advantage of completed and ongoing demonstrations. For example, the Moving to Opportunity demonstration was completed in 2011, but additional policy questions remain that could be answered using the existing data. Other demonstrations that are underway include Choice Neighborhoods, the Rental Assistance Demonstration, and the Small Area Fair Market Rent Demonstration. The Department's ability to modify or influence program policy to demonstrate and evaluate the effect of innovations is a key Departmental research asset. HUD also is interested in research opportunities that take advantage of completed and ongoing demonstrations.

(2) HUD data infrastructure. HUD makes significant investments to improve and support the nation's housing data, so submitting institutions are encouraged to consider opportunities to use HUD-sponsored survey data and administrative data. The American Housing Survey (AHS) is one of HUD's largest research investments, and the AHS provides a wealth of data on size and composition of the nation's housing inventory that researchers could use more effectively to address questions about housing market dynamics. The AHS, the 2012 Rental Housing Finance Survey, and other datasets sponsored by PD&R, along with HUD administrative data made available by PD&R, represent HUD research assets that PD&R seeks to exploit through Research Partnerships. Data assets are described at http://www.huduser.org/portal/pdrdatas_landing.html.

Cost Sharing

Cost sharing is required for research projects to be eligible for funding through HUD's non-competitive cooperative agreement authority. In accordance with the 2012 Appropriations Act, at least 50 percent of the total estimated cost of the project must come from a philanthropic entity, other federal, state or local government agency, or any combination of these partners. For the purposes of the cost-sharing requirement, HUD defines a philanthropic entity as the subset of 501(c)(3) organizations that directly fund research activities. These include private foundations; educational institutions that may have a separate foundation, public charities, and operating foundations. Philanthropic entities may include foreign entities. HUD will not count waiver of overhead or similar costs as cost-sharing contributions.

Proposals

Proposals should contain sufficient information for PD&R to identify whether the research would meet statutory requirements for cost sharing and alignment with the research priorities identified above. Additionally, proposals should include the name, title and telephone number of an individual that PD&R may contact in the event of any questions about the proposal. Proposals for research partnerships that have already been submitted to HUD as part of a grant competition are ineligible as the subject of a non-competitive cooperative agreement.

Protection of Human Research Subjects

HUD will require successful applicants to comply with requirements of the federal Common Rule (45 CFR part 46) for protecting human research subjects when applicable. Compliance may require grantees to seek review and approval of research plans by an Institutional Review Board (IRB). For research requiring an IRB review, work plans shall identify the IRB that the awardee will use and factor in the necessary cost and time involved in that review. HUD will require awardees to provide appropriate assurances and certifications of compliance before human subjects research begins.

Proposal Review

Proposals will be reviewed by individuals who are knowledgeable in the field covered by the research proposal. An Advisory Committee that includes the Deputy Assistant Secretary (DAS) for the Office of Research, Evaluation and Monitoring, the DAS for the Office of Policy Development, the DAS for the Office of Economic Affairs, the DAS for the Office of University Partnerships, and the DAS for the Office of International and Philanthropic Innovation, or any delegate asked to act on his or her behalf, will review proposals and make recommendations to the Assistant Secretary for PD&R. As required by the statutory authority within the appropriations bill, HUD will report each award provided through a cooperative agreement in the Federal Funding Accountability and Transparency Act Sub-award Reporting System created under the Federal Funding Accountability and Transparency Act of 2006.

Data Only Requests

For those who are interested in requesting only HUD data (no funds), a HUD data license agreement will be required. To obtain a copy of the data license application go to the following Web site: http://www.huduser.org/portal/research/pdr_data-license.html. Please be advised that a data license will only be considered for research that is in alignment with one of the research priorities listed in this notice. Applications may be submitted to HUD at DataLicense@hud.gov. Upon receipt, the application will be forwarded to the appropriate PD&R office for review and approval.

Dated: March 14, 2014.
Jean Lin Pao,
General Deputy Assistant Secretary for Policy Development and Research.

[FR Doc. 2014-06243 Filed 3-20-14; 8:45 am]

BILLING CODE 4210-67-P